DEPARTMENT OF ENERGY

Federal Energy Regulatory Commission

Combined Notice of Filings #1

Take notice that the Commission received the following electric corporate filings:

Docket Numbers: EC25-145-000.

Applicants: Entergy Arkansas, LLC, Forgeview Solar, LLC.

Description: Joint Application for Authorization Under Section 203 of the Federal Power Act of Entergy Arkansas, LLC, et al.

Filed Date: 9/17/25.

Accession Number: 20250917-5171.

Comment Date: 5 p.m. ET 10/8/25.

Take notice that the Commission received the following electric rate filings:

Docket Numbers: ER12-1692-000.

Applicants: Galaxy Energy, LLC.

Description: Notice of Cancellation of Market Based Rate Tariff of Galaxy Energy, LLC.

Filed Date: 9/18/25.

Accession Number: 20250918-5089.

Comment Date: 5 p.m. ET 10/9/25.

Docket Numbers: ER18-194-009; ER18-195-009; EL23-71-004.

Applicants: East Texas Electric Cooperative, Inc., Northeast Texas Electric Cooperative, Inc., Golden Spread Electric Cooperative, Arkansas Electric Cooperative Corporation, American Electric Power Service Corporation, Southwest Power Pool, Inc., American Electric Power Service Corporation, Southwest Power Pool, Inc.

Description: Compliance Filing to June 30, 2025 Order AEP Oklahoma Transmission Company, Inc. et al.

Filed Date: 8/29/25.

Accession Number: 20250829-5233.

Comment Date: 5 p.m. ET 10/9/25.

Docket Numbers: ER21-2963-000.

Applicants: CLN Energy LLC.

Description: Notice of Cancellation of Market Based Rate Tariff of CLN Energy LLC.

Filed Date: 9/18/25.

Accession Number: 20250918-5077.

Comment Date: 5 p.m. ET 10/9/25.

Docket Numbers: ER25-2246-001.

Applicants: Camchino Leasing, LLC.

Description: Tariff Amendment: Amendment to 1 to be effective 5/17/2025.

Filed Date: 9/18/25.

Accession Number: 20250918-5139.

Comment Date: 5 p.m. ET 10/9/25.

Docket Numbers: ER25-2636-001.

Applicants: Central Hudson Gas & Electric Corporation, New York Independent System Operator, Inc.

Description: Tariff Amendment: New York Independent System Operator, Inc. submits tariff filing per 35.17(b): Central Hudson Deficiency Response re: Revisions to RS 12 FRT to be effective 6/1/2025.

Filed Date: 9/18/25.

Accession Number: 20250918-5111.

Comment Date: 5 p.m. ET 10/9/25.

Docket Numbers: ER25-2845-001.

Applicants: Midcontinent Independent System Operator, Inc.

Description: Tariff Amendment: 2025-09-18_Deficiency Response to Demand Reduction Capability Enhancements to be effective 7/15/2025.

Filed Date: 9/18/25.

Accession Number: 20250918-5137.

Comment Date: 5 p.m. ET 10/9/25.

Docket Numbers: ER25-3022-000.

Applicants: Boot Hill Solar LLC.

Description: Supplement to 07/30/2025, Boot Hill Solar LLC tariff filing.

Filed Date: 9/17/25.

Accession Number: 20250917-5170.

Comment Date: 5 p.m. ET 9/22/25.

Docket Numbers: ER25-3453-000.

Applicants: Woodward Energy Storage, LLC.

Description: § 205(d) Rate Filing: Certificate of Concurrence to SFA with OK Wind to be effective 9/18/2025.

Filed Date: 9/17/25.

Accession Number: 20250917-5142.

Comment Date: 5 p.m. ET 10/8/25.

Docket Numbers: ER25-3454-000.

Applicants: Arizona Public Service Company.

Description: § 205(d) Rate Filing: Service Agreement No. 321—Notice of Cancellation to be effective 11/18/2025.

Filed Date: 9/17/25.

Accession Number: 20250917-5143.

Comment Date: 5 p.m. ET 10/8/25.

Docket Numbers: ER25-3455-000.

Applicants: PJM Interconnection, L.L.C.

Description: § 205(d) Rate Filing: Amendment of ISA SA No. 3378; Queue Nos. W2-010 and W2-011 to be effective 11/17/2025.

Filed Date: 9/17/25.

Accession Number: 20250917-5144.

Comment Date: 5 p.m. ET 10/8/25.

Docket Numbers: ER25-3456-000.

Applicants: Union Ridge Solar, LLC.

Description: Initial Rate Filing: Market Based Rate Tariff to be effective 9/18/2025.

Filed Date: 9/17/25.

Accession Number: 20250917-5149.

Comment Date: 5 p.m. ET 10/8/25.

Docket Numbers: ER25-3457-000.

Applicants: Route 66 Energy Storage, LLC.

Description: § 205(d) Rate Filing: Certificate of Concurrence to be effective 9/18/2025.

Filed Date: 9/17/25.

Accession Number: 20250917-5163.

Comment Date: 5 p.m. ET 10/8/25.

Docket Numbers: ER25-3458-000.

Applicants: Sky Ranch Energy Storage II, LLC.

Description: § 205(d) Rate Filing: Certificate of Concurrence to be effective 9/18/2025.

Filed Date: 9/17/25.

Accession Number: 20250917-5164.

Comment Date: 5 p.m. ET 10/8/25.

Docket Numbers: ER25-3459-000.

Applicants: Southwest Power Pool, Inc.

Description: § 205(d) Rate Filing: 4375R1 Skeleton Creek Energy Surplus Interconnection GIA to be effective 11/17/2025.

Filed Date: 9/18/25.

Accession Number: 20250918-5015.

Comment Date: 5 p.m. ET 10/9/25.

Docket Numbers: ER25-3460-000.

Applicants: Enterprise Solar, LLC.

Description: Initial rate filing: Filing of Shared Facilities Agreement to be effective 11/18/2025.

Filed Date: 9/18/25.

Accession Number: 20250918-5034.

Comment Date: 5 p.m. ET 10/9/25.

Docket Numbers: ER25-3461-000.

Applicants: Granite Mountain Solar East, LLC.

Description: § 205(d) Rate Filing: Filing of Shared Facilities Agreement to be effective 11/18/2025.

Filed Date: 9/18/25.

Accession Number: 20250918-5047.

Comment Date: 5 p.m. ET 10/9/25.

Docket Numbers: ER25-3462-000.

Applicants: Granite Mountain BESS East LLC.

Description: Initial rate filing: Certificate of Concurrence to be effective 11/18/2025.

Filed Date: 9/18/25.

Accession Number: 20250918-5052.

Comment Date: 5 p.m. ET 10/9/25.

Docket Numbers: ER25-3463-000.

Applicants: PJM Interconnection, L.L.C.

Description: § 205(d) Rate Filing: Revised SA No. 1313 NITSA Among PJM and CVEC to be effective 11/18/2025.

Filed Date: 9/18/25.

Accession Number: 20250918-5053.

Comment Date: 5 p.m. ET 10/9/25.

Docket Numbers: ER25-3464-000.

Applicants: Enterprise Storage LLC.

Description: Initial rate filing: Certificate of Concurrence to be effective 11/18/2025.

Filed Date: 9/18/25.

Accession Number: 20250918-5054.

Comment Date: 5 p.m. ET 10/9/25.

Docket Numbers: ER25-3465-000.

Applicants: Entergy Louisiana, LLC, Entergy Mississippi, LLC, Entergy New Orleans, LLC, Entergy Texas, Inc., Entergy Services, LLC, Entergy Arkansas, LLC.

Description: § 205(d) Rate Filing: Entergy Arkansas, LLC submits tariff filing per 35.13(a)(2)(iii: MSS-4R Tarriff Amendments_Short-Term Transactions to be effective 12/1/2025.

Filed Date: 9/18/25.

Accession Number: 20250918-5065.

Comment Date: 5 p.m. ET 10/9/25.

Docket Numbers: ER25-3467-00.

Applicants: PJM Interconnection, L.L.C.

Description: § 205(d) Rate Filing: Amendment to ISA, SA No. 5984; Project Identifier No. AC1-174/AC1-175 (amend) to be effective 11/18/2025.

Filed Date: 9/18/25.

Accession Number: 20250918-5105.

Comment Date: 5 p.m. ET 10/9/25.

Docket Numbers: ER25-3468-000.

Applicants: PJM Interconnection, L.L.C..

Description: § 205(d) Rate Filing: Amendment to ISA, SA No. 6738; Project Identifier No. AC2-090 (amend) to be effective 11/18/2025.

Filed Date: 9/18/25.

Accession Number: 20250918-5118.

Comment Date: 5 p.m. ET 10/9/25.

Docket Numbers: ER25-3469-000.

Applicants: PJM Interconnection, L.L.C.

Description: § 205(d) Rate Filing: GDECS Revisions to PJM Tariff and Operating Agreement to be effective 11/18/2025.

Filed Date: 9/18/25.

Accession Number: 20250918-5142.

Comment Date: 5 p.m. ET 10/9/25.

Docket Numbers: ER25-3470-000.

Applicants: PJM Interconnection, L.L.C.

Description: § 205(d) Rate Filing: Amendment to ISA, SA No. 2515; Project Identifier No. U2-090 (amend) to be effective 11/18/2025.

Filed Date: 9/18/25.

Accession Number: 20250918-5143.

Comment Date: 5 p.m. ET 10/9/25.

Take notice that the Commission received the following electric securities filings:

Docket Numbers: ES25-79-000.

Applicants: Upper Missouri G. & T. Electric Cooperative, Inc.

Description: Application Under Section 204 of the Federal Power Act for Authorization to Issue Securities of Upper Missouri G. & T. Electric Cooperative, Inc.

Filed Date: 9/17/25.

Accession Number: 20250917-5179.

Comment Date: 5 p.m. ET 10/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 18, 2025.
Carlos D. Clay,
Deputy Secretary.

[FR Doc. 2025-18390 Filed 9-22-25; 8:45 am]

BILLING CODE 6717-01-P